NUCLEAR REGULATORY COMMISSION

[NRC-2018-0001]

Sunshine Act Meetings

TIME AND DATE: Weeks of August 27, September 3, 10, 17, 24, October 1, 2018.

PLACE: Commissioners' Conference Room, 11555 Rockville Pike, Rockville, Maryland.

STATUS: Public and Closed.

MATTERS TO BE CONSIDERED:

Week of August 27, 2018

There are no meetings scheduled for the week of August 27, 2018.

Week of September 3, 2018—Tentative

There are no meetings scheduled for the week of September 3, 2018.

Week of September 10, 2018—Tentative

Monday, September 10, 2018

10:00 a.m. Briefing on NRC International Activities (Closed—Ex. 1 & 9).

Week of September 17, 2018—Tentative

There are no meetings scheduled for the week of September 17, 2018.

Week of September 24, 2018—Tentative

Thursday, September 27, 2018

10:00 a.m. Strategic Programmatic Overview of the Operating Reactors Business Line (Public), (Contact: Trent Wertz: 01-415-1568).

This meeting will be webcast live at the web address— http://www.nrc.gov/.

Week of October 1, 2018—Tentative

There are no meetings scheduled for the week of October 1, 2018.

CONTACT PERSON FOR MORE INFORMATION: For more information or to verify the status of meetings, contact Denise McGovern at 301-415-0681 or via email at Denise.McGovern@nrc.gov. The schedule for Commission meetings is subject to change on short notice.

The NRC Commission Meeting Schedule can be found on the internet at: http://www.nrc.gov/public-involve/public-meetings/schedule.html.

The NRC provides reasonable accommodation to individuals with disabilities where appropriate. If you need a reasonable accommodation to participate in these public meetings, or need this meeting notice or the transcript or other information from the public meetings in another format (e.g., braille, large print), please notify Kimberly Meyer-Chambers, NRC Disability Program Manager, at 301-287-0739, by videophone at 240-428-3217, or by email at Kimberly.Meyer-Chambers@nrc.gov. Determinations on requests for reasonable accommodation will be made on a case-by-case basis.

Members of the public may request to receive this information electronically. If you would like to be added to the distribution, please contact the Nuclear Regulatory Commission, Office of the Secretary, Washington, DC 20555 (301-415-1969), or you may email Patricia.Jimenez@nrc.gov or Wendy.Moore@nrc.gov.

Dated: August 23, 2018.
Denise L. McGovern,
Policy Coordinator, Office of the Secretary.

[FR Doc. 2018-18660 Filed 8-24-18; 11:15 am]

BILLING CODE 7590-01-P